DEPARTMENT OF HOMELAND SECURITY

U.S. Customs and Border Protection

[1651-0139]

Agency Information Collection Activities: Electronic Visa Update System

AGENCY: U.S. Customs and Border Protection, Department of Homeland Security

ACTION: 60-Day notice and request for comments; revision of an existing collection of information.

SUMMARY: U.S. Customs and Border Protection (CBP) of the Department of Homeland Security will be submitting the following information collection request to the Office of Management and Budget (OMB) for review and approval in accordance with the Paperwork Reduction Act: Electronic Visa Update System (EVUS). This is a proposed extension and revision of an information collection that was previously approved. CBP is proposing that this information collection be extended with a revision to the information collected. This document is published to obtain comments from the public and affected agencies.

DATES: Written comments should be received on or before April 24, 2017 to be assured of consideration.

ADDRESSES: All submissions received must include the OMB Control Number 1651-0139 in the subject line and the agency name. To avoid duplicate submissions, please use only one of the following methods to submit comments:

(1) Email. Submit comments to: (CBP_PRA@cbp.dhs.gov). The email should include the OMB Control number in the subject line.

(2) Mail. Submit written comments to CBP PRA Officer, U.S. Customs and Border Protection, Office of Trade, Regulations and Rulings, Economic Impact Analysis Branch, 10th Floor, 90 K St NE., Washington, DC 20229-1177.

FOR FURTHER INFORMATION CONTACT: Requests for additional PRA information should be directed to Paperwork Reduction Act Officer, U.S. Customs and Border Protection, Regulations and Rulings, Office of Trade, 90 K Street NE., 10th Floor, Washington, DC 20229-1177, or via email (CBP_PRA@cbp.dhs.gov). Please note that the contact information provided here is solely for questions regarding this notice. Individuals seeking information about other CBP programs should contact the CBP National Customer Service Center at 877-227-5511, (TTY) 1-800-877-8339, or CBP Web site at https://www.cbp.gov/. For additional help: https://help.cbp.gov/app/home/search/1.

SUPPLEMENTARY INFORMATION: CBP invites the general public and other Federal agencies to comment on proposed and/or continuing information collections pursuant to the Paperwork Reduction Act of 1995 (44 U.S.C. 3501 et seq.). The comments should address: (a) Whether the collection of information is necessary for the proper performance of the functions of the agency, including whether the information shall have practical utility; (b) the accuracy of the agency's estimates of the burden of the collection of information; (c) ways to enhance the quality, utility, and clarity of the information to be collected; (d) ways to minimize the burden including the use of automated collection techniques or the use of other forms of information technology; and (e) the annual cost burden to respondents or record keepers from the collection of information (total capital/startup costs and operations and maintenance costs). The comments that are submitted will be summarized and included in the CBP request for OMB approval. All comments will become a matter of public record. In this document, CBP is soliciting comments concerning the following Information collection:

Title: Electronic Visa Update System.

OMB Number: 1651-0139.

Form Number: N/A.

Abstract: The Electronic Visa Update System (EVUS) provides a mechanism through which visa information updates can be obtained from certain nonimmigrant aliens in advance of their travel to the United States. This provides CBP access to updated information without requiring aliens to apply for a visa more frequently. The EVUS requirements apply to nonimmigrant aliens who hold a passport issued by an identified country containing a U.S. nonimmigrant visa of a designated category. EVUS enrollment is currently limited to nonimmigrant aliens who hold unrestricted, maximum validity B-1 (business visitor), B-2 (visitor for pleasure), or combination B-1/B-2 visas, which are generally valid for 10 years, contained in a passport issued by the People's Republic of China.

EVUS provides for greater efficiencies in the screening of international travelers by allowing DHS to identify nonimmigrant aliens who may be inadmissible before they depart for the United States, thereby increasing security and reducing traveler delays upon arrival at U.S. ports of entry. EVUS aids DHS in facilitating legitimate travel while also enhancing public safety and national security.

Proposed Changes

DHS proposes to add the following optional question to EVUS: “Please enter information associated with your online presence—Provider/Platform—Social media identifier.” A social media identifier is any name, or “handle,” used by the individual on one or more platforms. The optional social media question on the EVUS enrollment will include a drop down menu of options for selection. This data will be used for vetting purposes, as needed, providing highly trained CBP officers with timely visibility into publicly available information on the platforms associated with the social media identifier(s) voluntarily provided by the applicant, along with other information and tools CBP officers regularly use in the performance of their duties. The officer will review said platforms in a manner consistent with the privacy settings the applicant has chosen to adopt for those platforms. It will also help distinguish between individuals with similar characteristics, such as similar names, and provide an additional means to contact an applicant if needed. Respondents who choose not to answer this question can still submit an EVUS enrollment without a negative interpretation or inference. The question will be clearly marked as optional.

Current Actions: This submission is being made to extend the expiration date with a change to the information collected as a result of adding an optional question about social media to EVUS. There are no changes to the burden hours.

Type of Review: Revision.

Affected Public: Individuals.

Estimated Number of Respondents: 3,595,904.

Estimated Number of Responses per Respondent: 1.

Estimated Total Annual Responses: 3,595,904.

Estimated Time per Response: 25 minutes.

Estimated Total Annual Burden Hours: 1,499,492.

Dated: February 15, 2017.
Seth Renkema,
Branch Chief, Economic Impact Analysis Branch, U.S. Customs and Border Protection.

[FR Doc. 2017-03343 Filed 2-17-17; 8:45 am]

BILLING CODE P